DEPARTMENT OF TRANSPORTATION

Federal Aviation Administration

[Summary Notice No. PE-2004-23]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on March 25, 2004.
Donald P. Byrne,
Assistant Chief Counsel for Regulations.

Dispositions of Petitions

Docket No.: FAA-2002-11949.

Petitioner: Aviation Services Group, Inc.

Section of 14 CFR Affected: 14 CFR 135.143(c)(2).

Description of Relief Sought/Disposition: To permit Aviation Services Group, Inc., to operate certain aircraft under part 135 without a TSO-C112 (Mode S) transponder installed on those aircraft. Grant, 3/16/04, Exemption No. 7807A.

Docket No.: FAA-2004-17018.

Petitioner: Clifford S. Kamm d.b.a. SeaWind Aviation.

Section of 14 CFR Affected: 14 CFR 135.203(a)(1).

Description of Relief Sought/Disposition: To permit Clifford S. Kamm d.b.a. SeaWind Aviation to conduct operations under visual flight rules outside controlled airspace, over water, at an altitude below 500 feet above the surface, subject to certain conditions and limitations. Grant, 3/16/04, Exemption No. 8274.

Docket No.: FAA-2003-15584.

Petitioner: Pacific Coast Air Museum Flight Foundation.

Section of 14 CFR Affected: 14 CFR 91.315, 91.319(a), 119.5(g), and 119.21(a)

Description of Relief Sought/Disposition: To permit Pacific Coast Air Museum Flight Foundation to operate its North American B-25 Mitchell and Douglas A-26 Invader for the purpose of carrying passengers for compensation or hire, subject to certain conditions and limitations. Grant, 3/16/04, Exemption No. 8273.

Docket No.: FAA-2004-17338.

Petitioner: Experimental Aircraft Association, Inc., and EAA Aviation Foundation, Inc.

Section of 14 CFR Affected: 14 CFR 119.5(g), 119.21(a), 135.251, 135.255, and appendixes I and J to part 121.

Description of Relief Sought/Disposition: To permit the Experimental Aircraft Association, Inc., and EAA Aviation Foundation, Inc., to operate its Douglas DC-3, Ford Tri-Motor, and various single-engine aircraft for the purpose of carrying passengers for compensation or hire. Denial, 3/16/04, Exemption No. 8272.

Docket No.: FAA-2003-14731.

Petitioner: Planes of Fame Air Museum.

Section of 14 CFR Affected: 14 CFR 91.315, 91.319(a), 119.5(g), and 119.21(a).

Description of Relief Sought/Disposition: To permit the Planes of Fame Air Museum to operate its former military North American B-25 and Douglas SDB-5 airplanes, for the purpose of exhibition, to be used for the carriage of passengers on local educational flights for compensation or hire. Grant, 3/16/04, Exemption No. 8271.

Docket No.: FAA-2004-17267.

Petitioner: Spirit Aviation, Inc.

Section of 14 CFR Affected: 14 CFR 135.299(a).

Description of Relief Sought/Disposition: To permit Spirit Aviation, Inc., pilots to accomplish a line operational evaluation in a Level C or Level D flight simulator in lieu of a line check in an aircraft. Denial, 3/11/04, Exemption No. 8275.

Docket No.: FAA-2004-17268.

Petitioner: Windham Aviation, Inc.

Section of 14 CFR Affected: 14 CFR 135.299(a).

Description of Relief Sought/Disposition: To permit Windham Aviation, Inc., pilots to accomplish a line operational evaluation in a Level C or Level D flight simulator in lieu of a line check in an aircraft. Denial, 3/10/04, Exemption No. 8276.

Docket No.: FAA-2001-10441.

Petitioner: Taylor Aviation, Inc.

Section of 14 CFR Affected: 14 CFR 135.143(c)(2).

Description of Relief Sought/Disposition: To permit Taylor Aviation, Inc., to operate certain aircraft under part 135 without a TSO-C112 (Mode S) transponder installed on those aircraft. Grant, 3/22/04, Exemption No. 8277.

Docket No.: FAA-2002-11559.

Petitioner: Brim Equipment Leasing, Inc., d.b.a. Brim Aviation.

Section of 14 CFR Affected: 14 CFR 135.143(c)(2).

Description of Relief Sought/Disposition: To permit Brim Equipment Leasing, Inc., d.b.a. Brim Aviation to operate certain aircraft under part 135 without a TSO-C112 (Mode S) transponder installed on those aircraft. Grant, 3/22/04, Exemption No. 7176B.

Docket No.: FAA-2001-10814.

Petitioner: Eagle Canyon Airlines, Inc., d.b.a. Scenic Airlines.

Section of 14 CFR Affected: 14 CFR 135.143(c)(2).

Description of Relief Sought/Disposition: To permit Eagle Canyon Airlines, Inc., d.b.a. Scenic Airlines to operate certain aircraft under part 135 without a TSO-C112 (Mode S) transponder installed on those aircraft. Grant, 3/22/04, Exemption No. 7147B.

[FR Doc. 04-7114 Filed 3-30-04; 8:45 am]

BILLING CODE 4910-13-P